DEPARTMENT OF HOMELAND SECURITY

Coast Guard

[Docket No. USCG-2022-0047]

Port Access Route Study: Approaches to Maine, New Hampshire, and Massachusetts

AGENCY: Coast Guard, DHS.

ACTION: Notice of availability of draft report; request for comments.

SUMMARY: On March 31, 2022, the Coast Guard published a notice of study and request for comments announcing commencement of an Approaches to Maine, New Hampshire, and Massachusetts Port Access Route Study (MNMPARS). This notice announces the availability of a draft report for public review and comment. The Coast Guard is seeking public comments on the content, proposed routing measures, and development of the report. The recommendations of this study may lead to future rulemakings or appropriate international agreements.

DATES: All comments and related material must be received on or before February 2, 2022. Commenters should be aware that the electronic Federal Docket Management System will not accept comments after midnight, Eastern Daylight Time, on the last day of the comment period.

ADDRESSES: You may submit comments identified by docket number USCG-2022-0047 using the Federal eRulemaking Portal (http://www.regulations.gov). See the “Public Participation and Request for Comments” portion of the SUPPLEMENTARY INFORMATION section for further instructions on viewing the draft report and submitting comments.

FOR FURTHER INFORMATION CONTACT: If you have questions about this notice, call or email LTJG Thomas Davis, First Coast Guard District (dpw), U.S. Coast Guard: telephone (617) 223-8632, email SMB-D1Boston-MNMPARS@uscg.mil.

SUPPLEMENTARY INFORMATION:

I. Table of Abbreviations

DHS Department of Homeland Security

MNMPARS Approaches to Maine, New Hampshire, and Massachusetts Port Access Route Study

PARS Port Access Route Study

TSS Traffic Separation Scheme

USCG United States Coast Guard

II. Background and Purpose

Under section 70003 of title 46 of the United States Code (46 U.S.C. 70003(c)), the Commandant of the U.S. Coast Guard (USCG) may designate necessary fairways and traffic separation schemes (TSSs) to provide safe access routes for vessels proceeding to and from U.S. ports. The designation of fairways and TSSs recognizes the paramount right of navigation over all other uses in the designated areas.

Before establishing or adjusting fairways or TSSs, the USCG must conduct a Port Access Route Study (PARS), i.e., a study of potential traffic density and the need for safe access routes for vessels. Through the study process, the USCG must coordinate with federal, state, tribal, and foreign state agencies (where appropriate) and consider the views of maritime community representatives, environmental groups, and other stakeholders. The primary purpose of this coordination is, to the extent practicable, to reconcile the need for safe access routes with other reasonable waterway uses such as anchorages, construction, operation of renewable energy facilities, marine sanctuary operations, commercial and recreational activities, and other uses.

On March 31, 2022, the Coast Guard commenced an Approaches to Maine, New Hampshire, and Massachusetts Port Access Route Study (MNMPARS) by publishing a notice of study and request for comments in the Federal Register (87 FR 18800). The purpose of the MNMPARS is to evaluate the adequacy of existing vessel routing measures and determine whether additional vessel routing measures are necessary for port approaches to Maine, New Hampshire, and Massachusetts and international and domestic transit areas in the First Coast Guard District area of responsibility.

On June 28, 2022, the First Coast Guard District published a 60-day Notification of Inquiry and Public Meetings; request for comments (87 FR 38418). This supplemental notice announced a schedule for six public meetings and sought additional public comments concerning more specific navigational safety issues. The notification requested responses to several general and port-specific questions that were based on analysis of historical traffic data and public comments received from the original Notice of Study. Of the six public meetings, four were conducted in both in-person and virtual formats, one was in-person only, and one was virtual only.

During both comment periods a total of 30 comments were submitted by representatives of the maritime community, Federal and State governmental agencies, environmental groups, non-governmental organizations, and other stakeholders. Comments were provided during public meetings, via email, and submitted directly to the electronic docket. Oral comments provided during public meetings can be viewed in the individual meeting recordings posted to the “Documents” section of the public docket.

The USCG is opening this third MNMPARS comment period to facilitate transparent public feedback on the content and findings included in the draft report of this study.

III. Information Requested

The USCG is seeking all public comments on the content and recommendations contained in the study draft report. All comments received will be reviewed and considered before a final version of the PARS is announced in the Federal Register.

IV. Public Participation and Request for Comments

We encourage you to participate in the study process by commenting on the content and development of the draft report.

A. Viewing the draft version of the report: To view the draft version of the MNMPARS report in the docket, go to http://www.regulations.gov, and insert “USCG-2022-0047” in the “search box”. Click “Search”. Then, scroll to find the document entitled “DRAFT REPORT Approaches to Maine, New Hampshire, and Massachusetts Port Access Route Study” under the document type “Supporting & Related Material.”

B. Submitting Comments: To submit your comment online, go to http://www.regulations.gov, and insert “USCG-2022-0047” in the “search box.” Click “Search”. Then scroll to find the most recent “notice” entitled “Port Access Route Study: Approaches to Maine, New Hampshire, and Massachusetts” and click “Comment.” The “Comment” button can be found on the following pages:

• Docket Details page when a document within the docket is open for comment,

• Document Details page when the document is open for comment, and

• Document Search Tab with all search results open for comment displaying a “Comment” button.

Clicking “Comment” on any of the above pages will display the comment form. You can enter your comment on the form, attach files (maximum of 20 files up to 10MB each), and choose whether to identify yourself as an individual, an organization, or anonymously. Be sure to complete all required fields depending on which identity you have chosen. Once you have completed all required fields and chosen an identity, the “Submit Comment” button is enabled. Upon completion, you will receive a Comment Tracking Number for your comment. For additional step by step instructions, please see the Frequently Asked Questions page on http://www.regulations.gov or by clicking https://www.regulations.gov/faq.

We accept anonymous comments. Comments we post to http://www.regulations.gov will include any personal information you have provided. For more about privacy and submissions to the docket in response to this document, see DHS's eRulemaking System of Records notice (85 FR 14226, March 11, 2020).

We review all comments and materials received during the comment period, but we may choose not to post off-topic, inappropriate, or duplicate comments that we receive.

C. How do I find and browse for posted comments on Regulations.gov? On the previous version of Regulations.gov, users browsed for comments on the Docket Details page. However, since comments are made on individual documents, not dockets, new Regulations.gov organizes comments under their corresponding document. To access comments and documents submitted to this draft version of the study report go to http://www.regulations.gov and insert “USCG-2022-0047” in the “search box.” Click “Search.” Then scroll down to and click on the most recent “notice” entitled “Port Access Route Study: Approaches to Maine, New Hampshire, and Massachusetts.” This will open to the “Document Details” page. Then click on the “Browse Comments” tab. On the comment tab, you can search and filter comments. Note: If no comments have been posted to a document, the “Comments” tab will not appear on the Document Details page.

D. If you need additional help navigating the new Regulations.gov. For additional step by step instructions to submit a comment or to view submitted comments or other documents please see the Frequently Asked Questions (FAQs) at http://www.regulations.gov/faqs or call or email the person in the FOR FURTHER INFORMATION CONTACT section of this document for alternate instructions.

E. Privacy Act: Anyone can search the electronic form of comments received into any of our dockets by the name of the individual submitting the comment (or signing the comment, if submitted on behalf of an association, business, labor union, etc.). You may review a Privacy Act, system of records notice regarding DHS's eRulemaking in the March 11, 2020, issue of the Federal Register (85 FR 14226).

V. Future Actions

Any comments received by the comment period end date will be reviewed and considered before the final report of the MNMPARS is announced in the Federal Register.

This notice is published under the authority of 5 U.S.C. 552(a).

Dated: December 22, 2022.
J. W. Mauger,
Rear Admiral, U.S. Coast Guard, Commander, First Coast Guard District.

[FR Doc. 2022-28482 Filed 12-30-22; 8:45 am]

BILLING CODE 9110-04-P